SECURITIES AND EXCHANGE COMMISSION

Sunshine Act Meeting

Federal Register Citation of Previous Announcement: [To be published on April 16, 2004].

Status: Closed meeting.

Place: 450 Fifth Street, NW., Washington, DC.

Date and Time of Previously Announced Meeting: Tuesday, April 20, 2004, at 2 p.m.

Change in the Meeting: Time change.

The Closed Meeting scheduled for Tuesday, April 20, 2004, at 2 p.m. has been changed to Tuesday, April 20, 2004, at 10:30 a.m.

At times, changes in Commission priorities require alterations in the scheduling of meeting items. For further information and to ascertain what, if any, matters have been added, deleted or postponed, please contact the Office of the Secretary at (202) 942-7070.

Dated: April 15, 2004.
Jonathan G. Katz,
Secretary.

[FR Doc. 04-8962 Filed 4-15-04; 3:51 pm]

BILLING CODE 8010-01-P